DEPARTMENT OF COMMERCE

International Trade Administration

A-823-810

Solid Agricultural Grade Ammonium Nitrate from Ukraine; Final Results of the Expedited Sunset Review of the Antidumping Duty Order

AGENCY: Import Administration, International Trade Administration, Department of Commerce.

SUMMARY: On August 1, 2006, the Department of Commerce (“Department”) initiated a sunset review of the antidumping duty order on solid agricultural grade ammonium nitrate from Ukraine pursuant to section 751(c) of the Tariff Act of 1930, as amended (“the Act”). On the basis of a notice of intent to participate and a complete substantive response filed on behalf of the domestic interested parties and an inadequate response from respondent interested parties, the Department conducted an expedited sunset review of the antidumping duty order pursuant to section 751(c)(3)(B) of the Act and 19 CFR 351.218(e)(1)(ii)(B). As a result of this sunset review, the Department finds that revocation of the order would likely lead to continuation or recurrence of dumping at the levels indicated in the “Final Results of Review” section of this notice.

EFFECTIVE DATE: December 5, 2006.

FOR FURTHER INFORMATION CONTACT: Audrey Twyman, Damian Felton, or Brandon Farlander, AD/CVD Operations, Office 1, Import Administration, International Trade Administration, U.S. Department of Commerce, 14th Street & Constitution Avenue, NW, Washington, DC 20230; telephone: (202) 482-3534, (202) 482-0133, and (202) 482-0182, respectively.

SUPPLEMENTARY INFORMATION:

Background

On August 1, 2006, the Department initiated a sunset review of the antidumping duty order on solid agricultural grade ammonium nitrate (“ammonium nitrate”) from Ukraine pursuant to section 751(c) of the Act. See Initiation of Five-year (Sunset) Reviews, 71 FR 43443 (August 1, 2006) (“Notice of Initiation”). The Department received a notice of intent to participate from the following domestic parties: the Committee for Fair Ammonium Nitrate Trade (“COFANT”) and its individual producer members, El Dorado Chemical Company and Terra Industries, Inc. (also known as “domestic interested parties”) within the deadline specified in 19 CFR 351.218(d)(1)(I). COFANT claims interested party status under section 771(9)(C) of the Act as domestic manufacturers of ammonium nitrate for its members.

The Department received a complete substantive response collectively from the domestic interested parties within the 30-day deadline specified in 19 CFR 351.218(d)(3)(i). The Department also received a substantive response from respondent interested party, Open Joint Stock Company “Azot,” within the deadline specified in 19 CFR 351.218(d)(3)(i). On September 7, 2006, the domestic interested parties submitted a rebuttal to Azot's substantive response. On September 20, 2006, the Department determined that the respondent interested party did not account for more than 50 percent of exports by volume of the subject merchandise, because it reported that it had no exports during the 2001-2005 sunset review period. Therefore, the Department concluded that the respondent interested party did not submit an adequate response to the Department's Notice of Initiation. See Memorandum to Susan H. Kuhbach entitled, “Adequacy Determination in Antidumping Duty Sunset Review of Solid Agricultural Grade Ammonium Nitrate from Ukraine,” (September 20, 2006). On October 10, 2006, the domestic interested parties submitted comments supporting the Department's adequacy determination.

Pursuant to 19 CFR 351.218(e)(1)(ii)(C)(2), the Department has conducted an expedited sunset review of this antidumping duty order.

Scope of the Order

The merchandise covered by this order are solid, fertilizer grade ammonium nitrate (“ammonium nitrate” or “subject merchandise”) products, whether prilled, granular or in other solid form, with or without additives or coating, and with a bulk density equal to or greater than 53 pounds per cubic foot. Specifically excluded from this scope is solid ammonium nitrate with a bulk density less than 53 pounds per cubic foot (commonly referred to as industrial or explosive grade ammonium nitrate). The merchandise subject to this investigation is classified in the Harmonized Tariff Schedule of the United States (“HTSUS”) at subheading 3102.30.00.00. HTSUS subheadings are provided for convenience and customs purposes. The written description of the scope of the order is dispositive.

Analysis of Comments Received

All issues raised in these reviews are addressed in the “Issues and Decision Memorandum for the Expedited Sunset Review of the Antidumping Duty Order on Solid Agricultural Grade Ammonium Nitrate from Ukraine; Final Results” (“Decision Memo”) from Stephen J. Claeys, Deputy Assistant Secretary for Import Administration, to David M. Spooner, Assistant Secretary for Import Administration (November 29, 2006), which is hereby adopted by this notice. The issues discussed in the Decision Memo include the likelihood of continuation or recurrence of dumping and the magnitude of the margins likely to prevail if the order were to be revoked. Parties can find a complete discussion of all issues raised in these reviews and the corresponding recommendations in this public memorandum which is on file in room B-099 of the main Department building.

In addition, a complete version of the Decision Memo can be accessed directly on the Web at http://ia.ita.doc.gov/frn. The paper copy and electronic version of the Decision Memo are identical in content.

Final Results of Review

The Department determines that revocation of the antidumping duty order on ammonium nitrate from Ukraine would be likely to lead to continuation or recurrence of dumping at the rates listed below:

Producers/Exporters | Margin (percent)
J.S.C. “Concern” Stirol | 156.29
All Others rate¹ | 156.29
¹ As of February 1, 2006, Ukraine graduated to market economy status (see Final Results of Inquiry Into Ukraine's Status as a Non-Market Economy Country, February 24, 2006 (71 FR 9520)). As a result, the Ukraine-wide rate is now the All Others rate. See Certain Cut-to-Length Carbon Steel Plate from Romania: Notice of Final Results and Final Partial Rescission of Antidumping Duty Administrative Review, 71 FR 12651 (March 15, 2005) and accompanying Issues and Decision Memorandum at Comment 2.

Notification regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results and notice in accordance with sections 751(c), 752(c), and 777(i)(1) of the Act.

Dated: November 29, 2006.
Joseph A. Spetrini,
Acting Assistant Secretary for Import Administration.

[FR Doc. E6-20551 Filed 12-4-06; 8:45 am]

Billing Code: 3510-DS-S